DEPARTMENT OF THE INTERIOR

Fish and Wildlife Service

Notice of Availability

SUMMARY: The Fish and Wildlife Service has published a Comprehensive Conservation Plan and a Finding of No Significant Impact for both Lower Suwannee and Cedar Keys National Wildlife Refuges. Lower Suwannee Refuge is located in Dixie and Levy Counties, Florida, and Cedar Keys Refuge is located in Levy County, Florida. These plans describe how the Fish and Wildlife Service will manage the refuges for the next 15 years.

ADDRESSES: Copies of the above documents may be obtained by writing to Kenneth Litzenberger, Refuge Manager, Lower Suwannee National Wildlife Refuge, 16450 NW 31st Place, Chiefland, Florida 32626-4874. Copies of both plans are also available at the following website address: http://lowersuwannee.fws.gov.

SUMMARY INFORMATION: The plans provide clear statements regarding management of the refuges; ensure that management of the refuges reflect policies and goals of the National Wildlife Refuge System; ensure that management is consistent with federal, state, and county plans; provide long-term continuity in refuge management; and provide a basis for operation, maintenance, and capital improvement budget requests. The Finding of No Significant Impact is in response to environmental documentation prepared subsequent to the National Environmental Policy Act, 1969, which requires the disclosure of environmental impacts of any major federal action significantly affecting the quality of the human environment.

Authority: This notice is published under the authority of the National Wildlife Refuge System Improvement Act of 1997, Public Law 105-57. Some of the major issues addressed in the plans include restoration and maintenance of health water regimes; reduce of exotic and invasion plants; expansion of wildlife species inventory and increased mapping of habitat; enhancement of wildlife habitat for migratory and resident songbirds; and expansion of wildlife-dependent and other compatible recreation opportunities.

Dated: September 19, 2001.
Sam D. Hamilton,
Regional Director.

[FR Doc. 01-25487 Filed 10-10-01; 8:45 am]

BILLING CODE 4310-55-M